DEPARTMENT OF TRANSPORTATION

Federal Railroad Administration

[Docket No. FRA-2022-0004]

Equivalent Protective Arrangements for Railroad Employees; Withdrawal of Notice of Final Guidance

AGENCY: Federal Railroad Administration (FRA), Department of Transportation (DOT).

ACTION: Notice; withdrawal.

SUMMARY: On November 28, 2022, the Federal Railroad Administration (FRA) published a notice in the Federal Register announcing the availability of final guidance issued by FRA in connection with statutorily required protective arrangements for employees impacted by certain projects financed by the Federal government. This document withdraws that notice, FR Doc. 2022-25882. The final guidance issued by FRA remains in effect.

DATES: As of May 3, 2023, FR Doc. 2202-25882, published on November 28, 2022, is withdrawn.

FOR FURTHER INFORMATION CONTACT: For further information, please contact Kevin MacWhorter, Attorney-Adviser, Development Law Office, at telephone: (202) 641-8727, email: Kevin.MacWhorter@dot.gov.

SUPPLEMENTARY INFORMATION: FR Doc. 2202-25882, published on November 28, 2022, (87 FR 73064), is withdrawn by this notice.

Issued in Washington, DC.
Allison Ishihara Fultz,
Chief Counsel.

[FR Doc. 2023-09384 Filed 5-2-23; 8:45 am]

BILLING CODE 4910-06-P